NATIONAL TRANSPORTATION SAFETY BOARD

Investigative Hearing

A recent midair collision accident southeast of Ronald Reagan Washington National Airport (DCA), Arlington, Virginia, has motivated this investigative hearing.

On January 29, 2025, about 2048 eastern standard time (EST), a Sikorsky UH-60L, operated by the US Army under the callsign PAT25, and an MHI (Mitsubishi Heavy Industries) RJ Aviation (formerly Bombardier) CL-600-2C10 (CRJ700), N709PS, operated by PSA Airlines as flight 5342, collided in flight approximately 0.5 miles southeast of Ronald Reagan Washington National Airport (DCA), Arlington, Virginia, and impacted the Potomac River in southwest Washington, District of Columbia.

The 2 pilots, 2 flight attendants, and 60 passengers aboard the airplane and all 3 crew members aboard the helicopter were fatally injured. Both aircraft were destroyed as a result of the accident. Flight 5342 was operating under the provisions of Title 14 Code of Federal Regulations (CFR) Part 121 as a scheduled domestic passenger flight from Wichita Dwight D. Eisenhower National Airport (ICT), Wichita, Kansas, to DCA. PAT25 originated from Davison Army Airfield (DAA), Fort Belvoir, Virginia, for the purpose of the pilot's annual standardization evaluation with the use of night vision goggles (NVGs). Night visual meteorological conditions prevailed in the area of DCA at the time of the accident.

The investigative hearing will discuss the following issue areas:

• Overview of Accident Helicopter's Air Data Systems and Altimeters.

• Overview of the DCA Class B Airspace and Helicopter Routes.

• Procedures and Guidance Used by DCA Air Traffic Control.

• Overview of Collision Avoidance Technology.

• Safety Data Available and Safety Management Systems at the Various Organizations.

Parties to the hearing are the Air Line Pilots Association; Federal Aviation Administration; National Air Traffic Controllers Association; PSA Airlines; Sikorsky; US Army.

Order of Proceedings

1. Opening Statement by the Chair of the Board of Inquiry

2. Introduction of the Board of Inquiry and Technical Panel

3. Introduction of the Parties to the Hearing

4. Introduction of Exhibits by Hearing Officer

5. Overview of the incident and the investigation by Investigator-In-Charge

6. Calling of Witnesses by Hearing Officer

7. Closing Statement by the Chair of the Board of Inquiry

The investigative hearing will be held at the NTSB Boardroom and Conference Center, 429 L'Enfant Plaza East SW, Washington, DC 20594 on Wednesday, July 30, 2025, 9:00 a.m. to 7:00 p.m. eastern time (ET), Thursday, July 31, 2025, 9:00 a.m. to 7:00 p.m. eastern time (ET), and Friday, August 1, 2025, 9:00 a.m. to 1:00 p.m. ET.

Media planning to cover the investigative hearing are asked to contact Peter Knudson at (202) 314-6100 or mediarelations@ntsb.gov.

The investigative hearing will be transmitted live via the NTSB's YouTube channel at https://www.youtube.com/user/NTSBgov. An archival video of the hearing will be available via the website for 30 days after the hearing.

Individuals requiring reasonable accommodation and/or wheelchair access directions should contact Daniel Bower at (202) 314-6562 or by email at DCAMidairHearing@ntsb.gov.

NTSB Investigative Hearing Officer: Daniel Bower—DCAMidairHearing@ntsb.gov.

The National Transportation Safety Board is holding this investigative hearing pursuant to the provisions of the Government in the Sunshine Act (5 U.S.C. 552b) and as authorized by 49 CFR 845.2.

Candi R. Bing,
Federal Register Liaison Officer.

[FR Doc. 2025-12923 Filed 7-10-25; 8:45 am]

BILLING CODE 7533-01-P